DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Confidentiality of Alcohol and Drug Abuse Patient Records—(OMB No. 0930-0092)—Revision

Statute (42 U.S.C. 290dd-2) and regulations (42 CFR Part 2) require federally conducted, regulated, or directly or indirectly assisted alcohol and drug abuse programs to keep alcohol and drug abuse patient records confidential. Information requirements are (1) written disclosure to patients about Federal laws and regulations that protect the confidentiality of each patient, and (2) documenting “medical personnel” status of recipients of a disclosure to meet a medical emergency. Annual burden estimates for these requirements are summarized in the table below:

Annualized Burden Estimates
| Annual number of respondents¹ | Responses per respondent | Total responses | Hours per response | Total hour burden
Disclosure
42 CFR 2.22 | 11,724 | 166 | ² 1,994,632 | .20 | 398,872
Recordkeeping
42 CFR 2.51 | 11,724 | 2 | 23,448 | .167 | 3,916
Total | 11,724 |  | 2,017,810 |  | 402,788
¹ The number of publicly funded alcohol and drug facilities from SAMHSA's 2011 National Survey of Substance Abuse Treatment Services (N-SSATS).
² The average number of annual treatment admissions from SAMHSA's 2008-2010 Treatment Episode Data Set (TEDS).

Written comments and recommendations concerning the proposed information collection should be sent by July 24, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-14900 Filed 6-21-13; 8:45 am]

BILLING CODE 4162-20-P